DEPARTMENT OF HOUSING AND URBAN DEVELOPMENT

[Docket No. FR-4719-N-01]

Notice of Funding Availability for the Community Development Work Study Program Fiscal Year 2002

AGENCY: Office of Policy Development and Research, HUD.

ACTION: Notice of Funding Availability (NOFA).

SUMMARY: This NOFA announces the availability of approximately $3.0 million for the Community Development Work Study Program (CDWSP).

Purpose of the Program: To provide assistance to economically disadvantaged and minority graduate students who participate in community development work study programs, are U.S. citizens or resident aliens, and are enrolled full-time in a graduate community building academic degree program.

Available Funds: Approximately $3 million from Fiscal Year (FY) 2002 appropriations (plus any additional funds recaptured from prior appropriations).

Eligible Applicants: Institutions of higher education, area-wide planning organizations (APOs), and States.

Application Deadline: March 11, 2002.

Matching Requirements: None.

ADDITIONAL INFORMATION:

Paperwork Reduction Act Statement

The information collection requirements contained in this NOFA have been approved by the Office of Management and Budget, under the Paperwork Reduction Act of 1995 (44 U.S.C. 3501-3520), and assigned OMB Control Number 2528-0175. An agency may not conduct or sponsor, and a person is not required to respond to, a collection of information unless the collection displays a valid control number.

I. Application Due Date, Application Kits, and Technical Assistance

Application Due Date: Your completed application must be received at the address listed below on March 11, 2002, based on the following submission requirements.

New Security Procedures. In response to the terrorist attacks in September 2001, HUD has implemented new security procedures that impact on application submission procedures. Please read the following instructions carefully and completely. HUD will not accept hand delivered applications. Applications may be mailed using the United States Postal Service (USPS) or may be shipped using the following delivery services: United Parcel Service (UPS), Federal Express (FedEx), DHL, or Falcon Carrier. No other delivery services are permitted into HUD Headquarters without escort. You must, therefore, use one of the four carriers listed above.

Mailed Applications. Your application will be considered timely filed if your application is postmarked on or before 12:00 midnight on the application due date and received by the designated HUD Office on or within fifteen (15) days of the application due date. All applicants must obtain and save a time stamped Certificate of Mailing showing the date when you submitted your application to the United States Postal Service (USPS). The Certificate of Mailing will be your documentary evidence that your application was timely filed.

Applications Sent by Overnight/Express Mail Delivery. If your application is sent by overnight delivery or express mail, your application will be timely filed if it is received before or on the application due date, or when you submit documentary evidence that your application was placed in transit with the overnight delivery/express mail service by no later than the application due date. Due to new security measures, couriers who arrive at HUD buildings without proper identification may be delayed or denied entry altogether. To avoid the possibility that security related delay might cause your application to be judged not timely filed, you must use one of four carrier services that do business with HUD regularly. These services are UPS, DHL, FedEx and Falcon Carrier. Delivery by these services must be made during HUD's Headquarters business hours, between 8:30 a.m. and 5:30 p.m., Eastern Time, Monday to Friday. If these companies do not service your areas, you should submit your application via the United States Postal Service.

Address for Submitting Applications: Your completed applications (one original and two copies) must be submitted to: Processing and Control Branch, Office of Community Planning and Development, U.S. Department of Housing and Urban Development, 451 Seventh Street, SW, Room 7251, Washington, DC 20410. When submitting your application, you should include your name, mailing address (including zip code) and telephone number (including area code).

For Application Kits, Further Information, and Technical Assistance:

For Application Kits: You may obtain an application kit by calling HUD USER at 1-800-245-2691. If you have a hearing or speech impairment, you may call the following TTY number: 1-800-483-2209. You may also access the application kit on the Internet from HUD's web site at www.hud.gov. When requesting an application, you should refer to CDWSP and include your name, mailing address (including zip code) and telephone number (including area code).

For Further Information and Technical Assistance: Armand W. Carriere Office of University Partnerships at (202) 708-3061, ext. 3181. Hearing-or speech-impaired individuals may call HUD's TTY number (202) 708-0770, or the Federal Information Relay Service at 1-800-877-8339. Other than the “800” number, these numbers are not toll-free. Armand W. Carriere can also be reached via the Internet at: Armand—W.—Carriere@HUD.gov.

II. Amount Allocated

Up to $3 million, plus any additional funds recaptured from prior appropriations.

III. Program Description; Eligible Applicants; Eligible Activities and Costs

(A) Program Description

CDWSP funds two-year grants to institutions of higher education, area-wide planning organizations, and States to provide assistance to economically disadvantaged and minority graduate students who participate in a community development work study program, are U.S. citizens or resident aliens, and are enrolled full-time in a graduate community building academic degree program. Grants will cover the academic period August 2002 through August 2004.

(B) Eligible Applicants

You must demonstrate that you are eligible to apply for the program. You are an eligible applicant if (a) you are an institution of higher education offering graduate degrees in a community development academic program, (b) an Area-wide Planning Organization (APO) applying on behalf of two or more eligible institutions of higher education located in the same Standard Metropolitan Statistical Area (SMSA) or non-SMSA as the APO (as a result of a final rule for the program published at 24 CFR 570.415, institutions of higher education are permitted to choose whether to apply independently or through an APO); or (c) a State applying on behalf of two or more eligible institutions of higher education located in the State. If a State is approved for funding, institutions of higher education located in the State are not eligible recipients. If you received a CDSWSP grant in FY 1998 or before and have not received one since then, you are considered a new applicant. If you did not fill all the student slots from a previous CDWSP grant, you may not apply again until one full grant application cycle after the expiration of that grant.

(C) Eligible Activities and Costs

You may request no more than $15,000 per year per student, for a total of two years. The total is broken down as follows: an administrative allowance of $1,000 per student per year; a work stipend of no more than $9,000 per student per year; and tuition, fees, and additional support of no more than $5,000 per student per year.

IV. Program Requirements

(A) Statutory Requirements

You must comply with all statutory and regulatory requirements applicable to this program. CDWSP regulations can be found at 24 CFR part 570.415. Copies of the regulations are available on request from HUD User.

(B) Eligibility of the Degree Program

An eligible community building academic degree program includes but is not limited to graduate degree programs in community and economic development, community planning, community management, public administration, public policy, urban economics, urban management, and urban planning. The term excludes social and humanistic fields such as law, economics (except for urban economics), education, sociology, social work, business administration, and history. The term also excludes joint degree programs except where both joint degree fields have the purpose and focus of educating students in community building.

You are encouraged to contact Armand W. Carriere at the above listed telephone number if you have any questions about eligibility of a proposed degree program.

(C) Affirmatively Furthering Fair Housing

You are not required to respond to HUD's affirmatively furthering fair housing requirements.

V. Application Selection Process

(A) Two Types of Reviews

Two types of reviews will be conducted—a threshold review to determine applicant eligibility and a rating based on the selection criteria for all applications that pass the threshold review.

(B) Threshold Criteria for Funding Consideration

(1) General Threshold Requirements

You must meet the following threshold requirement before an application can be evaluated, rated, and ranked:

(a) Eligibility. You must be eligible to apply for the program.

(b) Compliance with nondiscrimination requirements. You must comply with all Fair Housing Act and civil rights laws, statutes, regulations, and executive orders as enumerated in 24 CFR 5.105(a). If you: (i) Have been charged with a systemic violation of the Fair Housing Act by the Secretary alleging ongoing discrimination; (ii) are a defendant in a Fair Housing Act lawsuit filed by the Department of Justice alleging an ongoing pattern or practice of discrimination; or (iii) have received a letter of noncompliance findings under Title VI of the Civil Rights Act, Section 504 of the Rehabilitation Act, or section 109 of the Housing and Community Development Act, you are not eligible to apply for funding under this NOFA until you have resolved such charge, lawsuit, or letter of findings to the satisfaction of the Department.

(c) Number of students to be assisted. You may request funding for as many as five students, and in no case, for no less than three students, since the work plan and other facets of the evaluation are assessed in the context of the number of students for whom funding is requested. If your application requests fewer than three or more than five students per institution, it will be disqualified.

(d) Eligibility of the applicant and its proposed academic degree program. You must demonstrate that you are eligible to participate in the program, by demonstrating that you are either an institution of higher education that offers graduate degrees in at least one eligible community building academic program or you are an APO or State submitting an application on behalf of such institutions. Your application must also demonstrate that each institution participating in your program has the faculty to carry out its activities under your program. Each work placement agency must be involved in community building and must be an agency of a State or unit of local government, an area-wide planning organization, an Indian tribe, or a private nonprofit organization. In addition, if you did not fill all the student slots from a previous CDWSP grant, you may not apply again until one full grant application cycle after the expiration of that grant.

(e) Graduation rates. If you were funded during the FY 1999 round, you must maintain at least a 50 percent rate of graduation of students from this round which covered the school years August 1999 to August 2001 in order to be eligible to participate in the current round of CDWSP funding. If you were funded under the FY 1999 CDWSP funding round and did not maintain such a rate, you will be excluded from participating in the FY 2002 funding round. This rate must be achieved by the application submission date.

(C) Factors for Award Used To Evaluate and Rate Applications

To review and rate applications, the Department may establish panels including persons not currently employed by HUD to obtain certain expertise and outside points of view, including views from other Federal agencies. You will be evaluated competitively and ranked against all other applicants that have applied for the same funding program.

(D) General Factors for Award Used To Evaluate and Rank Applications

The factors for rating and ranking your application, and maximum points for each factor, are provided below. The maximum number of points for this program is 100. The rating of your organization and staff, unless otherwise specified, will include any sub-contractors, consultants, sub-recipients, and members of consortia that are firmly committed to your project, to the extent of their participation.

(1) Quality of the Academic Program (30 points if you have never received a CDWSP grant) (25 points if you have previously received a CDWSP grant)

HUD will evaluate the quality of the academic program you offer (or in the case of an application from an APO or State, those offered by the institutions included in your application) including, without limitation, the:

(i) Quality of your course offerings in terms of their depth, sophistication, quality, and emphasis on applied coursework;

(ii) Appropriateness of your course offerings for preparing students for careers in community building; and

(iii) Qualifications of your faculty and percentage of their time devoted to teaching and research in community building.

(2) Quality of the Work Placement Assignments (15 points)

HUD will evaluate the extent to which participating students will receive a sufficient number and variety of work placement assignments, the assignments will provide practical and useful experience to students participating in your program, and the assignments will further the participating students' preparation for professional careers in community building. In applying this factor, HUD will consider the quality in terms of relevance to community building and variety of work placement agencies and the quality and variety of projects/experiences at each agency and overall. You must have a plan for rotating students among work placement agencies. In order to receive full points on this factor, you must propose at least three different work placement experiences (typically, one each school year and one during the summer between the two school years). Students engaging in community building projects through an institution of higher education (rather than being directly supervised by local work placement sites) may do so only through a community outreach center, which will in that instance be considered a work placement agency even if the community building projects are undertaken with or through a separate organization or entity. Accordingly, students engaging in community building through an institution of higher education's outreach center should do so during only part of their academic program and should rotate to other work placement agency responsibilities as well. Full points will be awarded to institutions that have included executed agreements with their proposed work study sites, rather than just listing these sites. Note, this factor measures the quality of the placements and assignments, while Factor 3 below measures the quality of the plan for placing and rotating students.

(3) Effectiveness of Program Administration (18 points)

HUD will evaluate the degree to which you will be able to coordinate and administer your program. HUD will allocate the maximum points available under this criterion equally among the following three considerations, except that the maximum points available under this criterion will be allocated equally only between (i) and (ii), where you have not previously administered a CDWSP-funded program. If you received a CDWSP grant in FY 1998 or before and have not received one since then, you are considered a new applicant, for purposes of this factor.

(i) The strength and clarity of your plan for placing CDWSP students on rotating work placement assignments and for monitoring CDWSP students' progress both academically and in their work placement assignments;

(ii) The degree to which the individual who will coordinate and administer your program has clear responsibility, ample available time, and sufficient authority to do so;

(iii) The effectiveness of your prior coordination and administration of a CDWSP-funded program, where applicable. In addressing this factor, you should describe the timeliness of report submission. You should review your prior CDWSP grant agreements and reports and compare when reports were due with when the reports actually were submitted. A chart of your report submissions for each grant by submission time should be included. You should also describe your timeliness in drawing down grant funds.

(4) Demonstrated Commitment of the Applicant to Meeting the Needs of Economically Disadvantaged and Minority Students (10 points)

HUD will evaluate your commitment to meeting the needs of economically disadvantaged and minority students as demonstrated by your policies and plans, and past efforts and successes in, recruiting, enrolling and financially assisting economically disadvantaged and minority students, including the provision of reasonable accommodations for students with disabilities. If you are an APO or State, HUD will consider the demonstrated commitment of each institution of higher education on whose behalf you are applying; HUD will also consider your demonstrated commitment to recruit and hire economically disadvantaged and minority students.

(5) Rates of Graduation (7 points)

HUD will evaluate the rates of students previously enrolled in a community building academic degree program, specifically (where applicable) graduation rates from any previously funded CDWSP academic programs or similar programs. This factor measures the rate of graduation for all applicable years and awards points based on the extent to which the applicant exceeds a 50% graduation rate each applicable year.

(6) Extent of Financial Commitment (10 points)

HUD will evaluate your commitment and ability to assure that CDWSP students will receive sufficient financial assistance above and beyond the CDWSP funding to complete their academic program in a timely manner and without working in excess of 20 hours a week during the school year. When addressing this issue, you should, among other responsive information, delineate the full costs budgeted annually for a student (including living expenses, fees, etc), explain the basis for your budget and explain how the financial assistance package you will offer to each CDWSP student will meet that budget. You should have an adequate means of addressing reasonable variations in budget needs among students and for addressing emergency financial needs of students. Loans are less preferred than grants because students have to repay them.

(7) Likelihood of Fostering Students' Permanent Employment in Community Building (10 points if you have never received a CDWSP grant) (15 points if you have previously received a CDWSP grant)

HUD will evaluate the extent to which your proposed program will lead participating students directly and immediately to permanent employment in community building, as indicated by:

(i) Your past success in placing your graduates (particularly CDWSP-funded and similar program graduates, where applicable) in permanent employment in community building; and

(ii) The amount of faculty/staff time and resources you devote to assisting students (particularly students in CDWSP-funded and similar programs, where applicable) in finding permanent employment in community building.

VI. Application Submission Requirements

(A) Content of Application

Your application should include an original and two copies of the items listed below. In order to be able to recycle paper, you should not submit applications in bound form; binder clips or loose leaf binders are acceptable. Also, please do not use colored paper.

(1) Transmittal Letter, which must be signed by your Chief Executive Officer, or his or her designee. If a designee signs, your application must contain a copy of the official delegation of signatory authority. The letter must contain an assurance that you were not awarded a CDWSP grant in Fiscal Year 1999 or were awarded a Fiscal Year 1999 grant and had a 50 percent or higher rate of graduation of CDWSP students funded through the grant.

(2) Designation of your degree program(s) under which students will be educated.

(3) Executive Summary.

(4) Narrative statement addressing the Factors for Award in Section V. No attachments are permitted.

(5) Management/Work Plan.

(6) Recipient/Student Binding Agreement. HUD does not provide a model or sample format for this document.

(7) Recipient/Work Placement Agreement. HUD does not provide a model or sample format for this document. If you include executed agreements with your application, they belong here.

(8) Budget. Using the forms provided for the August 2002 through August 2004 funding period.

(9) Application for Federal Assistance (HUD-424).

(10) Standard Form for Assurances—Non-Construction Programs (SF-424B).

(11) Drug-Free Workplace Certification (HUD-50070).

(12) Certification of Payments to Influence Transactions (Form HUD-50071).

(13) Applicant/Recipient Disclosure Update Report (HUD-2880).

(14) Assurance regarding the applicant's financial management systems.

(B) Final Selection

If your application passes the threshold requirements, it will be rated and then ranked based on its total score on the selection factors. Your application will be considered for selection based on its rank order. HUD may make awards out of rank order to achieve geographic diversity, and may provide assistance to support a number of students that is less than the number requested under your application or a lower funding level per student, in order to provide assistance to as many highly ranked applications as possible.

If there is a tie in the point scores of two applications, the rank order will be determined by the scores on Rating Factor 1 entitled “Quality of the Academic Program.” The application with the most points on this factor will be given the higher rank. If there is still a tie, the rank order will be determined by the applicants' scores on Rating Factor 2 entitled “Effectiveness of program administration.” The application with the most points for this selection factor will be given the higher rank.

If there are insufficient funds to fund an application, even if the request is reduced to the minimum number of students which could be funded (i.e., three students per institution of higher education), HUD may select the next ranked application which would not exceed the funding left available and still fund the minimum number of students allowed.

HUD reserves the right to make selections out of rank order to provide for geographic distribution of funded CDWSPs. If HUD decides to use this option, it will do so only if two adjacent HUD Hubs (formerly referred to as regions) do not yield at least one fundable CDWSP on the basis of rank order. If this occurs, HUD will fund the highest ranking applicant within the two Hubs.

HUD reserves the right to reduce your amount of funding in order to fund as many highly ranked applications as possible. Additionally, if funds remain after funding the highest ranked application, HUD may fund part of the next highest ranking application (as long as it would provide assistance to the minimum number of students required to be served) in a given program area. If you turn down the award offer, HUD will make the same determination for the next highest-ranking application. If funds remain after all selections have been made, the remaining will be carried over to the next funding cycle's competition.

(C) Negotiations

After selections have been made, HUD may require winners to participate in negotiations to determine the Grant Budget. In cases where HUD cannot successfully conclude negotiations, or you fail to provide HUD with requested information, an award will not be made. In such instances, HUD may elect to offer an award to the next highest ranking applicant, and proceed with negotiations with the next highest applicant.

VII. Corrections to Deficient Applications

After the application due date, HUD may not, consistent with its regulations in 24 CFR part 4, subpart B, consider any unsolicited information you, the applicant, may want to provide. HUD may contact you, however, to clarify an item in your application or to correct technical deficiencies. You should note, however, that HUD may not seek clarification of items or responses that improve the substantive quality of your response to any selection factors. In order not to unreasonably exclude applications from being rated and ranked, HUD may, however, contact applicants to ensure proper completion of the application and will do so on a uniform basis for all applicants. Examples of curable (correctable) technical deficiencies include your failure to submit the proper certifications or your failure to submit an application that contains an original signature by an authorized official. In each case, HUD will notify you in writing by describing the clarification or technical deficiency. HUD will notify applicants by facsimile or by return receipt requested. You must submit clarifications or corrections of technical deficiencies in accordance with the information provided by HUD within 14 calendar days of the date of receipt of the HUD notification. (If the due date falls on a Saturday, Sunday or Federal holiday, your correction must be received by HUD on the next day that is not a Saturday, Sunday or Federal holiday.) If your deficiency is not corrected within this time period, HUD will reject your application as incomplete, and it will not be considered for funding.

VIII. Environmental Requirements

This NOFA does not direct, provide for assistance or loan and mortgage insurance for, or otherwise govern or regulate real property acquisition, disposition, leasing, rehabilitation, alteration, demolition, or new construction, or establish, revise, or provide for standards for construction or construction materials, manufactured housing, or occupancy. Accordingly, under 24 CFR 50.19(c)(1), this NOFA is categorically excluded from environmental review under the National Environmental Policy Act of 1969, as amended (42 U.S.C. 4321) and no Finding of No Significant Impact is needed. In addition, the provision of assistance under this NOFA is categorically excluded from environmental review under § 50.19(b)(3) and (b)(9).

IX. Other Matters

(A) Federalism, Executive Order 13132

This notice does not have federalism implications and does not impose substantial direct compliance costs on State and local governments or preempt State law within the meaning of Executive Order 13132 (entitled “Federalism”). (B) Executive Order 12372 Intergovernmental Review of Federal Program was issued with the desire to foster the intergovernmental partnership and strengthen Federalism by relying on State and local processes for the coordination and review of Federal financial assistance and direct Federal development. The Order allows each State to designate an entity to perform a State review function. For the official listing of State Points of Contact (SPOC) for this review process, please go to www.whitehouse.gov/omb/grants/spoc.html. States that are not listed on the website have chosen not to participate in the intergovernmental review process, and therefore do not have a SPOC. If you are located within one of those States, you should contact them to see if they are interested in reviewing your application prior to submission to HUD. Please make sure that you allow ample time for this review process when developing and submitting your applications.

(C) Prohibition Against Lobbying Activities

Applicants for funding under this NOFA (except Indian Housing Authorities established by tribal governments exercising their sovereign powers with respect to expenditures specifically permitted by Federal law) are subject to the provision of Section 319 of the Department of Interior and Related Agencies Appropriations Act for Fiscal Year 1991, 31 U.S.C. 1352 (the Byrd Amendment) and to the provisions of the Lobbying Disclosure Act of 1995, Pub. L. 104-65 (December 19, 1995).

The Byrd Amendment, which is implemented in regulations at 24 CFR part 87, prohibits applicants for Federal contracts and grants from using appropriated funds to attempt to influence Federal Executive or legislative officers or employees in connection with obtaining such assistance, or with its extension, continuation, renewal, amendment, or modification. The Byrd Amendment applies to the funds that are the subject of this NOFA. Therefore, applicants must file a certification stating that they have not made and will not make any prohibited payments and, if any payments or agreement to make payments of nonappropriated funds for these purposes have been made, a form SF-LLL disclosing such payments must be submitted. The certification and the SF-LLL are included in the application kit.

The Lobbying Disclosure Act of 1995, Pub. L. 104-65 (December 19, 1995), which repealed section 112 of the HUD Reform Act and resulted in elimination of the regulations at 24 CFR part 86, requires all persons and entities who lobby covered Executive or Legislative Branch officials to register with the Secretary of the Senate and the Clerk of the House of Representatives and file reports concerning their lobbying activities.

(D) Section 102 of the HUD Reform Act; Documentation and Public Access Requirements

Section 102 of the Department of Housing and Urban Development Reform Act of 1989 (HUD Reform Act) and the final rule codified at 24 CFR part 4, subpart A, published on April 1, 1996 (61 FR 1448), contain a number of provisions that are designed to ensure greater accountability and integrity in the provision of certain types of assistance administered by HUD. On January 14, 1992, HUD published, at 57 FR 1942, a notice that also provides information on the implementation of section 102. The documentation, public access, and disclosure requirements of section 102 are applicable to assistance awarded under this NOFA as follows:

(1) Documentation and public access requirements. HUD will ensure that documentation and other information regarding each application submitted pursuant to this NOFA are sufficient to indicate the basis upon which assistance was provided or denied. This material, including any letters of support, will be made available for public inspection for a five-year period beginning not less than 30 days after the award of the assistance. Material will be made available in accordance with the Freedom of Information Act (5 U.S.C. 552) and HUD's implementing regulations at 24 CFR part 15. In addition, HUD will include the recipients of assistance pursuant to this NOFA in its Federal Register notice of all recipients of HUD assistance awarded on a competitive basis.

(2) Debriefing. Beginning not less than 30 days after the awards for assistance are announced in the above-mentioned Federal Register notice, and for not longer than 120 days after awards for assistance are announced, HUD will provide a debriefing to any applicant requesting a debriefing on their application. All requests for debriefings must be made in writing and submitted to Armand W. Carriere, Office of University Partnerships, at the address listed above. Materials provided to you during your debriefing will include the final scores you received for each rating factor, final evaluator comments for each rating factor, and the final assessment indicating the basis upon which assistance was provided or denied.

(3) Disclosures. HUD will make available to the public for five years all applicant disclosure reports (HUD Form 2880) submitted in connection with this NOFA. Update reports (also Form 2880) will be made available along with the applicant disclosure reports, but in no case for a period less than three years. All reports—both applicant disclosures and updates—will be made available in accordance with the Freedom of Information Act (5 U.S.C. 552) and HUD's implementing regulations at 24 CFR part 15.

(E) Section 103 of the HUD Reform Act

HUD's regulations implementing section 103 of the Department of Housing and Urban Development Reform Act of 1989 (42 U.S.C. 3537a), codified in 24 CFR part 4, apply to this funding competition. The regulations continue to apply until the announcement of the selection of successful applicants. HUD employees involved in the review of applications and in the making of funding decisions are limited by regulations from providing advance information to any person (other than an authorized employee of HUD) concerning funding decisions, or from otherwise giving any applicant an unfair competitive advantage. Persons who apply for assistance in this competition should confine their inquiries to the subject areas permitted under 24 CFR part 4.

Applicants or employees who have ethics-related questions, such as whether particular subject matter can be discussed with persons outside the Department, should contact HUD's Ethics Law Division (202) 708-3815 (voice), (202) 708-1112 (TTY). (These are not toll-free numbers.) For HUD employees who have specific program questions, the employee should contact the appropriate Field Office Counsel or Headquarters Counsel for the program to which the question pertains.

(F) Catalog of Federal Domestic Assistance

The Catalogue of Federal Domestic Assistance number is: 14.234.

X. Authority

Section 107(c) of the Housing and Community Development Act of 1974, as amended (42 U.S.C. 5301 et seq.) authorizes CDWSP. Regulations for the program appear at 24 CFR 570.415.

Dated: February 4, 2002.
Lawrence Thompson,
General Deputy, Assistant Secretary for Policy Development and Research.

[FR Doc. 02-3094 Filed 2-7-02; 8:45 am]

BILLING CODE 4210-62-P